DEPARTMENT OF THE INTERIOR

Bureau of Reclamation

Red River Valley Water Supply Project, ND

AGENCY: Bureau of Reclamation, Interior.

ACTION: Notice for extension of the public comment period for the Supplemental Draft Environmental Impact Statement (SDEIS).

SUMMARY: The Bureau of Reclamation is announcing an extension of the public comment period for the Red River Valley Water Supply Project SDEIS. The previously announced comment period for the SDEIS was published in the Federal Register on February 9, 2007 (72 FR, 6285-6286) informing the public that the comment period would end on March 26, 2007. We are now notifying the public that Reclamation and the State of North Dakota are extending the comment period for an additional 30 days. Accordingly, the public comment period is extended to April 25, 2007.

DATES: All comments on the Supplemental DEIS must be received by Reclamation on or before April 25, 2007, at the address provided below.

ADDRESSES: Send comments on the Supplemental DEIS to: Red River Valley Water Supply Project EIS, Bureau of Reclamation, Dakotas Area Office, P.O. Box 1017, Bismarck, ND 58502.

FOR FURTHER INFORMATION CONTACT: Ms. Signe Snortland, telephone: (701) 250-4242 extension 3619, or Fax to (701) 250-4326. You may submit e-mail comments to ssnortland@gp.usbr.gov or through the Red River Valley Water Supply Project Web site at http://www.rrvwsp.com.

SUPPLEMENTARY INFORMATION: Our practice is to make comments, including names, home addresses, home phone numbers, and e-mail addresses of respondents, available for public review. Individual respondents may request that we withhold their names and/or home addresses, etc., but if you wish us to consider withholding this information you must state this prominently at the beginning of your comments. In addition you must present a rationale for withholding this information. The rationale must demonstrate that the disclosure would constitute a clearly unwarranted invasion of privacy. Unsupported assertions will not meet this burden. In the absence of exceptional, documentable circumstances, this information will be released. We will always make submissions for organizations or businesses, and from individuals identifying themselves as representatives or officials of organizations or businesses, available for public inspection in their entirety.

Dated: March 26, 2007.
Donald E. Moomaw,
Assistant Regional Director, Great Plains Region.

[FR Doc. E7-6176 Filed 4-2-07; 8:45 am]

BILLING CODE 4310-MN-P